DEPARTMENT OF STATE

[Public Notice: 12817]

Notice of Public Meeting in Preparation for International Maritime Organization MEPC/ES.2

The Department of State will conduct a public meeting at 1:00 p.m. on Wednesday, October 8, 2025, both in-person at Coast Guard Headquarters in Washington, DC, and via teleconference through Microsoft Teams. The primary purpose of the meeting is to prepare for the International Maritime Organization's (IMO) Marine Environment Protection Committee's 2nd Extraordinary Session (MEPC/ES.2) to be held at IMO Headquarters in London, United Kingdom from Tuesday, October 14, 2025, to Friday, October 17, 2025.

Members of the public may participate up to the capacity of the teleconference line, which can handle 500 participants or up to the seating capacity of the room if attending in-person. The meeting location will be the United States Coast Guard Headquarters, and the teleconference line will be provided to those who RSVP. To RSVP, participants should contact the meeting coordinator, LCDR Emily Sysko, by email at LCDR Emily.T.Sysko@uscg.mil. LCDR Sysko will provide access information for in-person and virtual attendance.

The agenda items to be considered at MEPC/ES.2 include:

—Adoption of the agenda;

—Decisions and adoption of amendments to mandatory instruments;

—Reduction of GHG emissions from ships;

—Any other business;

—Consideration of the report of the Committee.

Please note: The IMO may, on short notice, adjust the MEPC/ES.2 agenda to accommodate the constraints associated with the virtual meeting format. Although no changes to the agenda are anticipated, if any are necessary, they will be provided to those who RSVP.

Those who plan to participate may contact the meeting coordinator, LCDR Emily Sysko, by email at Emily.T.Sysko@uscg.mil or by phone at 202-372-1376 or in writing at 2703 Martin Luther King Jr. Ave. SE, ATTN: LCDR Emily Sysko, 2703 Martin Luther King Jr. Ave. SE, Stop 7509, Washington, DC 20593-7509, by September 24, 2025. Members of the public needing reasonable accommodation should advise LCDR Emily Sysko no later than September 24, 2025. Requests made after that date will be considered but might not be possible to fulfill.

Additional information regarding this and other IMO public meetings may be found at: https://www.dco.uscg.mil/IMO.

(Authority: 22 U.S.C. 2656 and 5 U.S.C. 552.)

Emily C. Miletello,
Coast Guard Liaison Officer, Office of Ocean and Polar Affairs, Department of State.

[FR Doc. 2025-17637 Filed 9-11-25; 8:45 am]

BILLING CODE 4710-09-P